DEPARTMENT OF HEALTH AND HUMAN SERVICES

National Institutes of Health

Prospective Grant of Exclusive License: 1,8 Naphthalimide Imidazo [4,5,1-de] Acridones With Anti-Tumor Activity

AGENCY: National Institutes of Health, Public Health Service, DHHS.

ACTION: Notice.

SUMMARY: This is notice, in accordance with 35 U.S.C. 209(c)(1) and 37 CFR 404.7(a)(1)(I), that the National Institutes of Health (NIH), Department of Health and Human Services, is contemplating the grant of an exclusive license to practice the invention embodied in U.S. Patent Application 60/187,991 filed on March 7, 2000, entitled “1,8 Naphthalimide Imidazo [4,5,1-de] Acridones with Anti-Tumor Activity,” to Avalon Pharmaceuticals, having a place of business in Gaithersburg, MD. The aforementioned patent rights have been assigned to the United States of America.

DATES: Only written comments and/or application for a license which are received by the NIH Office of Technology Transfer on or before July 1, 2002, will be considered.

ADDRESSES: Requests for a copy of the patent application, inquiries, comments and other materials relating to the contemplated license should be directed to: Wendy R. Sanhai, Ph.D., Office of Technology Transfer, National Institutes of Health, 6011 Executive Boulevard, Suite 325, Rockville, MD 20852-3804; e-mail: sanhaiw@od.nih.gov; Telephone: (301) 496-7056, ext. 244; Facsimile: (301) 402-0220.

SUPPLEMENTARY INFORMATION: This invention relates to the general fields of pharmaceuticals and cancer chemotherapy, particularly to the areas of cytotoxic antitumor agents and DNA intercalating agents. The lead imidazoacridone compound which will be the target of development of the exclusive licensee is WMC79, a novel synthetic agent with high selectivity and potency against colon, pancreatic and hematopoietic tumors. WMC79 is a novel synthetic agent with very potent but highly selective activity against colon cancer, pancreatic cancer as well as hematopoietic tumors. Preliminary data show that WMC79 is very active against colon cancer and pancreatic cancer xenografted into nude mice and is very well tolerated at doses that produce a strong anti-tumor effect.

The prospective exclusive license will be royalty bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

The field of use may be limited to the development of a drug for human administration, having therapeutic and pharmaceutical uses as an anti-cancer agent.

Properly filed competing applications for a license filed in response to this notice will be treated as objections to the contemplated license. Comments and objections submitted in response to this notice will not be made available for public inspection, and, to the extent permitted by law, will not be released under the Freedom of Information Act, 5 U.S.C. 552.

Dated: April 24, 2002.
Jack Spiegel,
Director, Division of Technology Development and Transfer, Office of Technology Transfer.

[FR Doc. 02-10926 Filed 5-1-02; 8:45 am]

BILLING CODE 4140-01-P